DEPARTMENT OF HEALTH AND HUMAN SERVICES

Health Resources and Services Administration

Statement of Organization, Functions and Delegations of Authority

This notice amends part R of the Statement of Organization, Functions and Delegations of Authority of the Department of Health and Human Services (HHS), Health Resources and Services Administration (HRSA) (60 FR 56605, as amended November 6, 1995; as last amended at 80 FR 37639-37640 dated July 1, 2015).

This notice reflects organizational changes in the Health Resources and Services Administration (HRSA), Maternal and Child Health Bureau (RM). Specifically, this notice: (1) Establishes the Office of Policy and Planning (RMA); (2) transfers the current Office of Policy Coordination (RM10) function to the newly established Office of Policy and Planning (RMA); and (3) abolishes the Office of Policy and Coordination (RM10).

Chapter RM—Maternal and Child Health Bureau

Section RM—00, Mission

To provide national leadership, in partnership with key stakeholders, to improve the physical and mental health, safety and well-being of the maternal and child health (MCH) population which includes all of the nation's women, infants, children, adolescents, and their families, including fathers and children with special health care needs.

Section RM-10, Organization

Delete the organization for the Maternal and Child Health Bureau (RM) in its entirety and replace with the following:

The Maternal and Child Health Bureau (RM) is headed by the Associate Administrator, who reports directly to the Administrator, Health Resources and Services Administration. The Maternal and Child Health Bureau includes the following components:

(1) Office of the Associate Administrator (RM);

(2) Office of Operations and Management (RM1);

(3) Office of Policy and Planning (RMA);

(4) Division of Services for Children with Special Health Needs (RM2);

(5) Division of Child, Adolescent and Family Health (RM3);

(6) Division of MCH Workforce Development (RM4);

(7) Division of Healthy Start and Perinatal Services (RM5);

(8) Division of State and Community Health (RM6);

(9) Division of Home Visiting and Early Childhood Systems (RM8); and

(10) Office of Epidemiology and Research (RM9).

Section RM-20, Functions

This notice reflects organizational changes in the Health Resources and Services Administration (HRSA), Maternal and Child Health Bureau (RM). Specifically, this notice: (1) Establishes the Office of Policy and Planning (RMA); (2) transfers the Office of Policy Coordination (RM10) function to the newly established Office of Policy and Planning (RMA); and (3) abolishes the Office of Policy and Coordination (RM10).

Delete the function for the Office of Policy Coordination (RM10), and replace in its entirety.

Office of Policy and Planning (RMA)

The Office of Policy and Planning (OPP) serves as the Maternal and Child Health Bureau (MCHB) focal point for the development of MCHB policy and program planning. Specifically, the Office: (1) Supports the Office of the Associate Administrator in identifying, planning, and implementing policy and program priorities across MCHB; (2) works closely with the Office of the Associate Administrator to develop strategic plans, facilitate program alignment, and support special initiatives; (3) advises and assists in the development, coordination and management of program and policy documents, and responses to departmental and HRSA initiatives; and (4) coordinates with other components within HRSA and HHS, federal agencies, state and local governments, and other public and private organizations on issues affecting MCHB programs and policies.

Delegations of Authority

All delegations of authority and re-delegations of authority made to HRSA officials that were in effect immediately prior to this reorganization, and that are consistent with this reorganization, shall continue in effect pending further re-delegation.

This reorganization is effective upon date of signature.

Dated: July 15, 2015.
James Macrae,
Acting Administrator.

[FR Doc. 2015-18415 Filed 7-24-15; 8:45 am]

BILLING CODE 4165-15-P